DEPARTMENT OF HOMELAND SECURITY

Coast Guard

[Docket No. USCG-2014-0935]

Letter of Recommendation for Washington State Ferries Liquefied Natural Gas Conversion; Seattle, WA

AGENCY: Coast Guard, DHS.

ACTION: Notice and request for comments.

SUMMARY: Coast Guard Sector Puget Sound received a Letter of Intent (LOI) and Waterway Suitability Assessment (WSA) from Washington State Ferries for a proposal to convert six Issaquah Class Ferries to Liquefied Natural Gas (LNG) propulsion. By statute, the Captain of the Port (COTP), Coast Guard Sector Puget Sound, will be reviewing and validating the WSA in cooperation with key port stakeholders and issue a Letter of Recommendation (LOR) to the State of Washington Department of Transportation regarding the suitability of the waterway for LNG marine traffic. As it conducts this review, the Coast Guard solicits public comments that may inform the COTP's recommendation. The Washington State Ferries' LOI, WSA, and other supporting documentation and information can be viewed at: http://www.wsdot.wa.gov/Ferries/Environment/LNG.htm.

DATES: Comments must be submitted to the online docket via http://www.regulations.gov, or reach the Docket Management Facility, on or before January 12, 2015.

ADDRESSES: Submit comments using one of the listed methods, and see SUPPLEMENTARY INFORMATION for more information on public comments.

• Online— http://www.regulations.gov following Web site instructions.

• Fax—202-493-2251.

• Mail or hand deliver—Docket Management Facility (M-30), U.S. Department of Transportation, West Building Ground Floor, Room W12-140, 1200 New Jersey Avenue SE., Washington, DC 20590-0001. Hours for hand delivery are 9 a.m. to 5 p.m., Monday through Friday, except Federal holidays (telephone 202-366-9329).

FOR FURTHER INFORMATION CONTACT: For information about this document call or email LT Sarah E. Rodino, Coast Guard; telephone 202-217-6623, email Sarah.E.Rodino@uscg.mil. For information about viewing or submitting material to the docket, call Cheryl Collins, Program Manager, Docket Operations, telephone 202-366-9826, toll free 1-800-647-5527.

SUPPLEMENTARY INFORMATION:

Public Participation and Comments

We encourage you to submit comments (or related material) on the Washington State Ferries' proposal as may inform the Coast Guard's LOR. We will consider all reasonable submissions on topics related to the suitability of the waterway for LNG marine traffic which may affect the COTP's review and validation of the WSA and preparation of the LOR. Comments should be marked with docket number USCG-2014-0935 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008).

Mailed or hand-delivered comments should be in an unbound 8½ x 11 inch format suitable for reproduction. The Docket Management Facility will acknowledge receipt of mailed comments if you enclose a stamped, self-addressed postcard or envelope with your submission.

Documents mentioned in this notice, and all public comments, are in our online docket at http://www.regulations.gov and can be viewed by following the Web site's instructions. You can also view the docket at the Docket Management Facility (see the mailing address under ADDRESSES) between 9 a.m. and 5 p.m., Monday through Friday, except Federal holidays.

Discussion

In accordance with 33 CFR 127.007, Coast Guard Sector Puget Sound received an LOI and WSA from Washington State Ferries on June 27, 2014 regarding their proposal to convert six Issaquah Class Ferries to LNG propulsion. The LOI notes that if the conversion is completed, each vessel would require fueling by truck once every 7 to 10 days.

Under 33 CFR 127.009, and in reference to the Coast Guard's Navigation and Vessel Inspection Circular (NVIC) 01-2011, “Guidance Related to Waterfront Liquefied Natural Gas (LNG) Facilities,” the Coast Guard will be reviewing and validating the Washington State Ferries' WSA in cooperation with key port stakeholders. In conjunction with the review and validation of the WSA, the Coast Guard seeks public comments on the proposal which may inform the COTP's recommendation to the State of Washington Department of Transportation. Once the information in the WSA is validated, the COTP will issue an LOR to the State of Washington Department of Transportation regarding the suitability of the waterway for LNG marine traffic.

The Washington State Ferries' LOI, WSA, and other supporting documentation and information can be viewed at: http://www.wsdot.wa.gov/Ferries/Environment/LNG.htm. In addition, a copy of NVIC 01-2011 is available for viewing on the Coast Guard's Web site at http://www.uscg.mil/hq/cg5/nvic/2010s.asp.

This notice is issued under authority of 33 CFR 127.009.

Dated: October 20, 2014.
M.W. Raymond,
Captain, U.S. Coast Guard, Captain of the Port, Sector Puget Sound.

[FR Doc. 2014-26749 Filed 11-10-14; 8:45 am]

BILLING CODE 9110-04-P